LEGAL SERVICES CORPORATION

Sunshine Act Meeting Notice

DATE AND TIME: The Legal Services Corporation's Board of Directors and Governance and Performance Review Committee will meet telephonically on November 17, 2014. The meeting will commence at 3:30 p.m., Eastern Time, and will continue until the conclusion of the Board's agenda.

Location: F. William McCalpin Conference Center, Legal Services Corporation Headquarters, 3333 K Street NW., Washington, DC 20007.

Public Observation: Members of the public who are unable to attend in person but wish to listen to the public proceedings may do so by following the telephone call-in directions provided below.

Call-In Directions For Open Sessions:

• Call toll-free number: 1-866-451-4981;

• When prompted, enter the following numeric pass code: 5907707348

• When connected to the call, please immediately “MUTE” your telephone. Members of the public are asked to keep their telephones muted to eliminate background noises. To avoid disrupting the meeting, please refrain from placing the call on hold if doing so will trigger recorded music or other sound. From time to time, the presiding Chair may solicit comments from the public.

Status of Meetings: Open.

MATTERS TO BE CONSIDERED:

Governance and Performance Review Committee

1. Approval of agenda

2. Consider and act on adoption of a Health Reimbursement Arrangement Plan and delegation to the LSC President of authority to amend employee health benefits

3. Public Comment

4. Consider and act on adjournment of meeting

Board of Directors

1. Approval of agenda

2. Consider and act on the Board of Directors' transmittal to accompany the Inspector General's Semiannual Report to Congress for the period of April 1, 2014 to September 30, 2014

3. Public Comment

4. Consider and act on other business

5. Consider and act on adjournment of meeting

Contact Person For Information: Katherine Ward, Executive Assistant to the Vice President & General Counsel, at (202) 295-1500. Questions may be sent by electronic mail to FR_NOTICE_QUESTIONS@lsc.gov.

Accessibility: LSC complies with the Americans with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: November 10, 2014.
Atitaya C. Rok,
Staff Attorney.

[FR Doc. 2014-27062 Filed 11-12-14; 11:15 am]

BILLING CODE 7050-01-P